DEPARTMENT OF AGRICULTURE

Forest Service

Information Collection; Civil Rights Compliance Review Record—Federally Assisted Programs

AGENCY: Forest Service, USDA.

ACTION: Notice; request for comment.

SUMMARY: In accordance with the Paperwork Reduction Act of 1995, the Forest Service is seeking comments from all interested individuals and organizations on the renewal of the information collection, Civil Rights Compliance Review Record—Federally Assisted Programs.

With this renewal, the Agency has changed the name of the information collections from Equal Opportunity Compliance Review Record to Civil Rights Compliance Review Record—Federally Assisted Programs.

DATES: Comments must be received in writing on or before June 5, 2015 to be assured of consideration. Comments received after that date will be considered to the extent practicable.

ADDRESSES: Comments concerning this notice should be addressed to USDA Forest Service Washington Office, Office of Civil Rights, Mail Stop 1142, 1400 Independence Avenue SW., Washington, DC 20250-1142.

Comments also may be submitted via facsimile to 703-605-5174 or by email to pjackman@fs.fed.us.

The public may inspect comments received at USDA Forest Service Washington Office, during normal business hours. Visitors are encouraged to call ahead to facilitate entry to the building.

FOR FURTHER INFORMATION CONTACT: Pat Jackman, Civil Rights, by phone at 202-205-0989, or via email at pjackman@fs.fed.us. Individuals who use a TTY may call 711 or the Federal Relay Service (FRS) at 1-800-877-8339, 24 hours a day, every day of the year, including holidays.

SUPPLEMENTARY INFORMATION: Title: Civil Rights Compliance Review Record—Federally Assisted Programs

OMB Number: 0596-0215

Type of Request: Extension with no change

Abstract: All Federal agencies must comply with equal opportunity laws:

• Title VI of the Civil Rights Act of 1964, as amended;

• Title IX of the Education Amendments Act of 1972;

• The Age Discrimination Act of 1975, as amended;

• Section 504 of the Rehabilitation Act of 1973, as amended; and

• Executive orders prohibiting discrimination in the delivery of all programs and services to the public.

Federal agencies and entities receiving Federal financial assistance are prohibited from discriminating. Federal financial assistance is defined as, “Federal monies given by grants, cooperative agreements, commercial special use permits, training, loan/temporary assignment of Federal personnel, or loan/use of Federal property at below market value.”

The equal opportunity laws require agencies to conduct compliance reviews to ensure that entities receiving Federal Financial Assistance from the government are adhering to the non-discrimination statutes. The statutes require that prior to awarding support or issuing permits, the Federal government shall conduct pre-award reviews to ensure that potential recipients understand their responsibilities to provide services equitable pursuant to the law. Thereafter, during the partnership with the Agency, on-going monitoring will take place to ensure the public is being served without any barriers or discrimination. The compliance review tool consists of three forms, used consecutively during the same review.

Forest Service employees will use form FS-1700-0006A, Civil Rights Compliance Review Record—Federally Assisted Programs, to collect information regarding actions taken by recipients of Federal financial assistance to ensure the public receives services without discrimination or barriers to access, and that recipients' employees understand their role in ensuring equal access to services. Collection will occur during face-to-face meetings or telephone interviews conducted by Forest Service employees as part of the pre-award and Post-award process. The pre-award interview will take place prior to the award of a grant, signing of a cooperative agreement, letting of commercial special use permit, or similar activity. The post award interview will take place once every five years, or upon report/discovery of discrimination.

Forest Service employees will use form FS-1700-0006B, Civil Rights Compliance Review Record—Federally Assisted Programs, (Post-Award Review Interview of an Employee of the Recipient) to collect information from an employee of the recipient's program to assess their awareness of Civil Rights responsibilities to ensure the public receives services without discrimination or barriers to access. This aids in determining if recipients' have advised and trained employees of their customer service and Civil Rights compliance role. Collection will occur during face-to-face meetings or interviews conducted by Forest Service employees as part of the post award process. The Post-award interview will take place once every five years, or upon report/discovery of discrimination.

Forest Service employees will use form FS-1700-0006C, Civil Rights Compliance Review Record—Federally Assisted Programs, (Post-Award Review Interview of a Participant) to collect information from the public or customers of the recipients of Federal financial assistance to determine if the public is receiving services without discrimination or barriers to access. Collection will occur during face-to-face interviews conducted by Forest Service employees as part of the post award process. The Post-award interview will take place once every five years, or upon report/discovery of discrimination.

The information collected will only be shared with other Federal agencies who share in the financial assistance activities with the Forest Service. Monitoring reviews have been a responsibility of the Federal government since 1964. Without the ability to monitor recipients of Federal financial assistance, the Forest Service would not be able to ensure compliance with laws and statutes. The Agency would not be aware of potential violations, thereby resulting in potential discriminatory practices.

Estimate of Annual Burden: 1 hour.

Type of Respondents: Recipients of Federal financial assistance.

Estimated Annual Number of Respondents: 11,000.

Estimated Annual Number of Responses per Respondent: One.

Estimated Total Annual Burden on Respondents: 11,000.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: March 27, 2015.
Robert Velasco II,
Associate Deputy Chief, Business Operations.

[FR Doc. 2015-07736 Filed 4-3-15; 8:45 am]

BILLING CODE 3411-15-P